DEPARTMENT OF STATE

[Public Notice: 7149; OMB 1405-0182]

60-Day Notice of Proposed Information Collection: DS-160, Online Application for Nonimmigrant Visa

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Online Application for Nonimmigrant Visa.

• OMB Control Number: 1405-0182.

• Type of Request: Revision.

• Originating Office: Bureau of Consular Affairs, Visa Services (CA/VO).

• Form Number: DS-160.

• Respondents: All nonimmigrant visa applicants.

• Estimated Number of Respondents: 6,500,000.

• Estimated Number of Responses: 6,500,000.

• Average Hours per Response: 75 minutes.

• Total Estimated Burden: 8,125,000 hours.

• Frequency: Once per visa application.

• Obligation To Respond: Required to Obtain Benefit.

DATES: The Department will accept comments from the public up to 60 days from September 8, 2010.

ADDRESSES: You may submit comments by any of the following methods:

• E-mail: VisaRegs@state.gov (Subject line must read DS-160 Reauthorization).

• Mail (paper, disk, or CD-ROM submissions): Chief, Legislation and Regulation Division, Visa Services—DS-160 Reauthorization, 2401 E Street, NW., Washington, DC 20520-30106.

You must include the DS form number (if applicable), information collection title, and OMB control number in any correspondence.

FOR FURTHER INFORMATION CONTACT: Direct requests for additional information regarding the collection listed in this notice, including requests for copies of the proposed information collection and supporting documents, to Stefanie Claus of the Office of Visa Services, U.S. Department of State, 2401 E Street, NW. L-603, Washington, DC 20522, who may be reached at (202) 663-2910.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The Online Application for Nonimmigrant Visa (DS-160) will be used to collect biographical information from individuals seeking a nonimmigrant visa. The consular officer uses the information collected to determine the applicant's eligibility for a visa. This collection combines questions from current information collections DS-156 (Nonimmigrant Visa Application), DS-156E (Nonimmigrant Treaty Trader Investor Application), DS-156K (Nonimmigrant Fiancé Application), DS-157 (Nonimmigrant Supplemental Visa Application), and DS-158 (Contact Information and Work History Application).

Methodology

The DS-160 will be submitted electronically to the Department via the Internet. The applicant will be instructed to print a confirmation page containing a bar coded record locator, which will be scanned at the time of processing. Applicants who submit the electronic application will no longer submit paper-based applications to the Department.

Dated: August 25, 2010.
David T. Donahue,
Deputy Assistant Secretary, Bureau of Consular Affairs, Department of State.

[FR Doc. 2010-22360 Filed 9-7-10; 8:45 am]

BILLING CODE 4710-06-P